DEPARTMENT OF COMMERCE

Bureau of Industry and Security

15 CFR Part 774

RIN 0694-XC096

Brain Computer Interface (BCI) Two-Day Hybrid Conference at the Department of Commerce

AGENCY: Bureau of Industry and Security, Department of Commerce.

ACTION: Announcement of the Brain-Computer Interface (BCI) two-day hybrid conference.

SUMMARY: The Bureau of Industry and Security (BIS) is announcing a two-day hybrid (in-person and virtual) conference with industry and other experts from academia on Brain-Computer Interface (BCI) technology (hereinafter, the BCI conference). This document describes the purpose and scope of the BCI conference and the procedures for attending or requesting to speak. In an advance notice of proposed rulemaking (ANPRM) published on October 26, 2021, BIS requested input from the public and industry concerning the potential uses of BCI technology, particularly with respect to its impact on U.S. national security. While the comments submitted in response to the ANPRM increased BIS's understanding of BCI technology, the BCI conference is intended to further both BIS's and the public's understanding of the current status of BCI technology and anticipated future developments in research and applications.

DATES:

BCI conference: The BCI conference will be held on February 16 and 17, 2023. On February 16, 2023, the proceedings will begin at 9:00 a.m. Eastern Standard Time (EST) and conclude at 3:30 p.m. EST. On February 17, 2023, the BCI conference proceedings will begin at 9:00 a.m. EST and conclude at 11:45 a.m. EST. The Microsoft Teams link for this event is available on the BIS website at https://www.bis.doc.gov/BCIconference2023.

Recording: Within 7 business days after the BCI conference, BIS will post a link on the BIS website at https://www.bis.doc.gov/BCIconference2023 to a recording on MS Teams. This recording will include captioning to make the recording accessible to people with disabilities.

FOR FURTHER INFORMATION CONTACT: For questions or concerns, please contact Dr. Betty Lee, Chemical and Biological Controls Division, Bureau of Industry and Security, Department of Commerce at phone number at (202) 482-5817; or email at Betty.Lee@bis.doc.gov and include “BCI conference” in the subject line. For technical help for the BCI conference, please contact ithelp@bis.doc.gov.

SUPPLEMENTARY INFORMATION:

Background

Purpose

In this document, the Bureau of Industry and Security (BIS) is announcing a two-day hybrid (in-person and virtual) conference with industry and other experts (e.g., from research institutions) on Brain-Computer Interface (BCI) technology. This document describes the purpose and scope of the BCI conference and the procedures for attending or requesting to speak. The BCI conference is intended to further BIS's and the public's understanding of the current status and future developments in BCI technology and anticipated future developments in research and applications. The information obtained through the BCI conference will assist BIS in assessing BCI technology's national security implications in connection with potential regulation under the Export Administration Regulations, 15 CFR parts 730 through 774 (EAR) as a “Section 1758 technology” consistent with Section 1758 of the Export Control Reform Act of 2018, 50 U.S.C. 4817 (ECRA). Section 1758 of ECRA authorizes BIS to establish appropriate controls on the export, reexport, or transfer (in-country) of emerging and foundational technologies that are essential to the national security of the United States (referred to by BIS as “Section 1758 technologies”).

In October 2021, BIS published an advance notice of proposed rulemaking (ANPRM) (86 FR 59070 (Oct. 26, 2021)). This ANPRM requested comments from the public and industry concerning the potential uses of BCI technology, particularly with respect to its impact on U.S. national security (e.g., whether such technology could provide the United States, or any of its adversaries, with a qualitative military or intelligence advantage). BIS received 18 comments. The majority of comments stated that BCI technology is used for medical purposes to assist patients that are paralyzed and should not be controlled. These comments highlighted the fact that BCI technology is currently being monitored for future advances and commercialization. Given the limited number of comments, and the innovations made in BCI technology in the intervening years, BIS hopes to obtain additional information at the BCI conference, including as to innovations, current research initiatives and applications, and information regarding national security implications. BIS is not seeking consensus advice or recommendations from the invited speakers or any members of the public. Instead, it is interested in learning from the perspectives of individuals in their own capacity or as members of a company or entity. Any information provided during the BCI conference, including remarks by industry and academia participants and members of the public, will be made part of the record in any future rulemaking pertaining to BCI technology.

Agenda

Following opening remarks by BIS officials, Day 1 will focus on understanding the neurotech industry. It will include speakers from leading companies and academic institutions involved in BCI technology who will address patient advocacy for obtaining BCI technology for patients, government funding for BCI technology, BCI technology state of the art and applications, and the importance of developing BCI technology further and expanding its usage. The rest of Day 1 will feature presentations by leaders in the BCI technology industry and community, e.g., leaders in research institutes in this area. While the Day 2 agenda is still being finalized, it will include additional remarks by BIS officials on export controls, including how BIS identifies Section 1758 technologies. This session will be followed by speakers from leading companies and academic research institutions involved in BCI, along with other speakers who will address existing work being done on ethics involving BCI technology and dual-use applications for BCI technology. As detailed below, interested members of the public may request to speak at the conference by following the procedures identified in this document. Once the agenda is finalized, BIS will post the final agenda for the BIS conference on the BIS website at https://www.bis.doc.gov/BCIconference2023.

The seventeen speakers who have been identified by BIS to speak at this conference are leaders and experts in the BCI industry and community, e.g., researchers and scholars at academic research institutes, and have been invited to give an overview of the current state of the art, including recent innovations in BCI technology, including potential dual-use applications that could be of concern for national security reasons.

Procedure for Attending or Viewing the BCI Conference via Microsoft Teams

RSVP for in-person attendance: As the room capacity is limited to 45 persons, the public is encouraged to participate virtually. Individuals who wish to attend the BCI conference in person are required to RSVP by emailing Betty.Lee@bis.doc.gov and include the subject line “Request to attend BCI conference” in the email. In the email, please provide your name, job title, organization name, contact information, and a brief description (no longer than 3 sentences) on why you are interested in attending the BCI conference in person. Requests to attend the BCI conference in person must be submitted by 5:00 p.m. EST on February 10, 2023. BIS will notify persons selected to attend in person no later than 5:00 p.m. EST on February 14, 2023, with priority given to persons who are selected to make a presentation on the second day of the BCI conference. Persons interested in attending the BCI conference in person on both days and making a presentation on the second day do not need to submit an RSVP email and instead should follow the guidance below under “Procedures for requests to make a presentation at the BCI conference.” Please note that individuals who wish to attend the BCI conference virtually are not required to submit an RSVP request.

Webcast: As noted in the Dates section of this document, the BCI conference will be available live via Microsoft Teams. See the Dates section for Microsoft Teams link to attend virtually.

Visitor Access Requirement: For individuals attending in person, please note that identification is required for access and that Federal agencies will only accept a state-issued driver's license or identification card for access to Federal facilities if such license or identification card is issued by a state that is compliant with the REAL ID Act of 2005 (Pub. L. 109-13), or by a state that has an extension for REAL ID compliance. The main entrance of the Department of Commerce is located at 1401 Constitution Avenue NW, Washington, DC 20230, between Pennsylvania Avenue and Constitution Avenue and directly across from the Ronald Reagan Building. Upon entering the building, please go through security and check in at the guard's desk. BIS staff will meet and escort visitors to the auditorium.

Non-U.S. Citizens/Non-Permanent Residents: All foreign national visitors who do not have permanent resident status in the United States and who wish to register to attend the BCI conference in person must send an email to Betty.Lee@bis.doc.gov to request registration instructions no later than 5:00 p.m. EST on February 7, 2023. Please also bring a copy of your passport on the day of the hearing to serve as identification.

Procedures for Requests To Make a Presentation at the BCI Conference

The agenda for the BCI conference includes several leading experts in BCI technology from industry and academia. Other participants attending in person or virtually will have an opportunity to ask questions. In addition, there will be a limited number of spots for individuals to make short presentations either in person or virtually on February 17, the second day of the BCI conference.

Individuals who wish to make a presentation at the BCI conference on February 17, either in person or virtually, who have not already been identified by BIS as speakers are required to submit an email by 5:00 p.m. EST on Friday, February 10, 2023, to Betty.Lee@bis.doc.gov with the subject line “Request to speak at BCI conference.” In that email, please include your name, job title, organization name, contact information, a brief description (no longer than 3 sentences) of why you are interested in speaking, a copy of any slides that will be used, and specify whether you will be attending in person or virtually. The email must also include a copy of any presentation that you plan to use. Presentations must be no longer than 10 minutes. BIS reserves the right to impose additional time constraints in order to accommodate potential speakers. In selecting speakers, BIS will seek to represent a range of views. BIS will notify persons selected to speak no later than 5:00 p.m. EST on February 14, 2023.

Thea D. Rozman Kendler,
Assistant Secretary for Export Administration.

[FR Doc. 2023-02413 Filed 2-3-23; 8:45 am]

BILLING CODE 3510-33-P